DEPARTMENT OF HEALTH AND HUMAN SERVICES

Administration for Children and Families

Submission for Office of Management and Budget Review; National Medical Support Notice Part A (Office of Management and Budget #: 0970-0222)

AGENCY: Office of Child Support Services, Administration for Children and Families, U.S. Department of Health and Human Services.

ACTION: Request for public comments.

SUMMARY: The Office of Child Support Services (OCSS), Administration for Children and Families (ACF) is requesting the Office of Management and Budget (OMB) to approve the National Medical Support Notice (NMSN) Part A, with minor changes, for an additional 3 years. The current OMB approval expires November 30, 2025. To allow states to program the changes to the proposed NMSN Part A, OCSS requests that the current NMSN Part A be extended 1 year.

DATES: Comments due October 16, 2025.

ADDRESSES: The public may view and comment on this information collection request at: https://www.reginfo.gov/public/do/PRAViewICR?ref_nbr=202509-0970-004. You can also obtain copies of the proposed collection of information by emailing infocollection@acf.hhs.gov. Identify all emailed requests by the title of the information collection.

SUPPLEMENTARY INFORMATION:

Description: The Personal Responsibility and Work Opportunity Reconciliation Act of 1996 (PRWORA) requires all child support orders under title IV-D of the Social Security Act to provide medical support coverage. The Child Support Performance and Incentive Act of 1998 (CSPIA) requires compliance through the NMSN Part A. The NMSN Part A expedites requests for medical coverage between state child support agencies, employers, and health care administrators. OCSS maintains Part A of the NMSN. States populate it and send it to the parent's employer to complete. Then the employer's health care administrator enrolls the children in the health care plan. OCSS provides the NMSN Part A Sample and Instructions for employers as a resource to review while completing the information collection. Minor deletions and changes have been made to the NMSN Part A, the instructions, and the sample language for clarification.

Respondents: States, employers, and health care administrators.

Annual Burden Estimates

The estimated time per response remains the same, but the estimated number of respondents and number of responses has been updated to reflect assumptions for the next three years. OCSS estimates it will take state child support agencies about a year to implement the revised form. Table 1 below shows burden hour estimates for respondents to continue to use the currently approved NMSN during an initial implementation period for the updated version. Table 2 shows the burden estimates for respondents once the new version of the NMSN is fully implemented in 2026.

Table 1—Current Form in Use During Implementation Through 2026
Information collection title | Total number of annual respondents | Annual number of responses per respondent | Average burden hours per response | Annual burden hours
NMSN—Part A—Notice to Withhold for Health Care Coverage—States | 54 | 90,194 | .17 | 827,891
NMSN—Part A—Notice to Withhold for Health Care Coverage—Employers | 1,310,727 | 3.72 | .17 | 828,904
State Medical Support Contacts and Program Requirement Matrix—States | 54 | 1 | 1 | 54
NMSN—Part A—Notice to Withhold for Health Care Coverage e-NMSN record specification layout Electronic system to system—States | 5 | 5,000 | .01 | 250
NMSN—Part A—Notice to Withhold for Health Care Coverage e-NMSN record specification layout Electronic system to system—Employers | 25 | 3.72 | .01 | 1
Estimated Annual Burden |  |  |  | 1,657,100

Table 2—Revised Form—Estimated Burden After 2026 Implementation
Information collection title | Total number of annual respondents | Annual number of responses per respondent | Average burden hours per response | Annual burden hours
NMSN—Part A—Notice to Withhold for Health Care Coverage—States | 54 | 86,818 | .17 | 796,989
NMSN—Part A—Notice to Withhold for Health Care Coverage—Employers | 1,263,267 | 3.71 | .17 | 796,742
NMSN—Part A—Notice to Withhold for Health Care Coverage e-NMSN record specification layout Electronic system to system—States | 7 | 5,000 | .01 | 350
NMSN—Part A—Notice to Withhold for Health Care Coverage e-NMSN record specification layout Electronic system to system—Employers | 25 | 3.72 | .01 | 1
Estimated Annual Burden |  |  |  | 1,567,082

Authority: Section 466(a)(19) of the Social Security Act, 42 U.S.C. 666(a)(19); 45 U.S.C. 303.32 National Medical Notice; The Personal Responsibility and Work Opportunity Reconciliation Act of 1996 (PWRORA) Pub. L. 104-193; Child Support Performance and Incentives Act of 1998 (CSPIA) Pub. L. 105-200, section 401(c); 609(a)(5)(C) of the Employee Retirement Income Security Act of 1974 (ERISA), Pub. L. 93-406.

Mary C. Jones,
ACF/OPRE Certifying Officer.

[FR Doc. 2025-17837 Filed 9-15-25; 8:45 am]

BILLING CODE 4184-41-P